INTERNATIONAL TRADE COMMISSION

[Inv. No. 337-TA-491]

Certain Display Controllers and Products Containing Same; Notice of Commission Decision Not To Review an Initial Determination Amending the Complaint and Notice of Investigation

AGENCY: International Trade Commission.

ACTION: Notice.

SUMMARY: Notice is hereby given that the U.S. International Trade Commission has determined not to review the presiding administrative law judge's (“ALJ's”) initial determination (“ID”) (Order No. 5) amending the complaint and notice of investigation. The Commission understands the ALJ's statement summarizing complainant's argument, at page 2 of the ID, as implicitly including the following italicized language: “In its motion, Genesis contends that it did not become aware of MStar's allegedly infringing product in the United States until April 18, 2003, when it purchased a Sony monitor containing an MStar MST9011 display controller from a retailer in California.”

FOR FURTHER INFORMATION CONTACT: Clara Kuehn, Esq., Office of the General Counsel, U.S. International Trade Commission, 500 E Street, SW, Washington, DC 20436, telephone (202) 205-3012. Copies of the public version of the ALJ's ID and all other nonconfidential documents filed in connection with this investigation are or will be available for inspection during official business hours (8:45 a.m. to 5:15 p.m.) in the Office of the Secretary, U.S. International Trade Commission, 500 E Street, SW, Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on April 14, 2003, based on a complaint filed on behalf of Genesis Microchip (Delaware) Inc. (“complainant”) of Alviso, Calif. 68 FR 17,964 (Apr. 14, 2003). The complaint, as supplemented, alleged violations of section 337 of the Tariff Act of 1930 in the importation into the United States, sale for importation, and sale within the United States after importation of certain display controllers and products containing same by reason of infringement of claims 13 and 15 of U.S. Patent No. 6,078,361 (“the 361 patent”); claims 19-22 of U.S. Patent No. 5,953,074 (“the '074 patent”); and claims 1 and 9 of U.S. Patent No. 6,177,922. The notice of investigation identified three respondents: Media Reality Technologies, Inc. of Taipei, Taiwan; Media Reality Technologies, Inc. of Sunnyvale, Calif. (collectively “MRT”); and Trumpion Microelectronics, Inc. (“Trumpion”) of Taipei City, Taiwan. Id.

On May 30, 2003, complainant moved pursuant to Commission rule 210.14(b) to amend the complaint and notice of investigation to name MStar Semiconductor, Inc. (“MStar”) as an additional respondent and to assert against MStar claims 13 and 15 of the '361 patent, claims 15-22 of the '074 patent, and claims 1-3, 5, 6, 9, 12, 13, 16, 17, 33-36, 38, and 39 of U.S. Patent No. 5,739,867 (“the '867 patent). Thus, complainant sought to add claims 15-18 of the '074 patent and selected claims of the '867 patent to the investigation. On June 11, 2003, the Commission investigative attorney (“IA”) filed a response in support of the motion. On June 19, 2003, MStar filed an opposition to the motion. No responses were filed by MRT or Trumpion.

On June 20, 2003, the ALJ issued an ID (Order No. 5) granting the motion, thereby amending the complaint and notice of investigation to add claims 15-18 of the '074 patent and claims 1-3, 5, 6, 9, 12, 13, 16, 17, 33-36, 38, and 39 of the '867 patent, and to add MStar as an additional respondent. On June 26, 2003, MStar filed a petition for review of the ID. On July 3, 2003, responses opposing the petition were filed by the IA and complainant.

The authority for the Commission's determination is contained in section 337 of the Tariff Act of 1930, as amended (19 U.S.C. 1337), and in section 210.42 of the Commission's rules of practice and procedure (19 CFR 210.42).

Issued: July 18, 2003.
By order of the Commission.
Marilyn R. Abbott,
Secretary.

[FR Doc. 03-19437 Filed 7-30-03; 8:45 am]

BILLING CODE 7020-02-P